DEPARTMENT OF THE INTERIOR

Bureau of Land Management

[WO-250-1220-EA-24 1A]

Extension of Approved Information Collection, OMB Control Number 1004-0133

AGENCY: Bureau of Land Management, Interior.

ACTION: Notice and request for comments.

SUMMARY: In accordance with the Paperwork Reduction Act of 1995, the Bureau of Land Management (BLM) requests the Office of Management and Budget (OMB) to extend an existing approval to collect information from individuals desiring to use campgrounds. BLM uses Form 1370-36, Permit Fee Envelope, to collect this information. This information allows BLM to determine if all users paid the required fee, the number of users, and their State of origin.

DATE: You must submit your comments to BLM at the address below on or before August 21, 2006. BLM will not necessarily consider any comments received after the above date.

Addresses: You may mail comments to: Bureau of Land Management, (WO-630), Eastern States Office, 7450 Boston Blvd., Springfield, Virginia 22153.

You may send comments via Internet to: comments_washington@blm.gov. Please include “ATTN: 1004-0133” and your name and return address in your Internet message.

You may deliver comments to the Bureau of Land Management, Administrative Record, Room 401, 1620 L Street, NW., Washington, DC.

All comments will be available for public review at the L Street address during regular business hours (7:45 a.m. to 4:15 p.m), Monday through Friday.

FOR FURTHER INFORMATION CONTACT: You may contact Anthony Bobo, on (202) 452-0333 (Commercial or FTS). Persons who use a telecommunication device for the deaf (TDD) may call the Federal Information Relay Service (FIRS) on 1-800-877-8330, 24 hours a day, seven days a week, to contact Mr. Bobo.

SUPPLEMENTARY INFORMATION: 5 CFR 1320.12(a) requires that we provide a 60-day notice in the Federal Register concerning a collection of information to solicit comments on:

(a) Whether the proposed collection of information is necessary for the proper functioning of the agency, including whether the information will have practical utility;

(b) The accuracy of our estimates of the information collection burden, including the validity of the methodology and assumptions we use;

(c) Ways to enhance the quality, utility, and clarity of the information collected; and

(d) Ways to minimize the burden of the collection of information on those who are to respond, including the uses of appropriate automated, electronic, mechanical, or other technological collection techniques or other forms of information technology.

Respondents use Form 1370-36, Permit Fee Envelope, to supply the information the BLM needs to determine if all users paid the required fee, the number of users, and their State of origin.

Based on BLM's experience administering the activities, we estimate the public reporting burden to complete the information collected is two minutes per response. The respondents are individuals desiring to use the campground. The frequency of response is occasionally. We estimate the number of responses per year is 500,000 and the total annual burden is 16,667 hours.

BLM will summarize all responses to this notice and include them in the request for OMB approval. All comments will become a matter of public record.

Dated: June 7, 2006.
Ted R. Hudson,
Bureau of Land Management, Information Collection Clearance Officer.

[FR Doc. 06-5554 Filed 6-20-06; 8:45 am]

BILLING CODE 4310-84-M